DEPARTMENT OF THE TREASURY

Office of Foreign Assets Control

31 CFR Part 560

Iranian Transactions Regulations

AGENCY: Office of Foreign Assets Control, Treasury.

ACTION: Final rule.

SUMMARY: The Department of the Treasury's Office of Foreign Assets Control (“OFAC”) is amending the Iranian Transactions Regulations in the Code of Federal Regulations to expand the scope of Appendix A to Part 560 to encompass any person determined by OFAC to be the Government of Iran, as that term is defined in those regulations. OFAC also is adding to the appendix 22 persons it has determined to be the Government of Iran. In addition, OFAC is updating the current list of entities in appendix A, removing an entity, and consolidating and amending other listings. Finally, OFAC is reformatting and republishing in alphabetical order the entire list of persons in the expanded appendix.

DATES: Effective Date: June 16, 2010.

FOR FURTHER INFORMATION CONTACT: Assistant Director for Compliance, Outreach & Implementation, tel.: 202/622-2490, Assistant Director for Licensing, tel.: 202/622-2480, Assistant Director for Policy, tel.: 202/622-4855, Office of Foreign Assets Control, or Chief Counsel (Foreign Assets Control), tel.: 202/622-2410, Office of the General Counsel, Department of the Treasury, Washington, DC 20220 (not toll free numbers).

SUPPLEMENTARY INFORMATION:

Electronic and Facsimile Availability

This document and additional information concerning OFAC are available from OFAC's Web site (http://www.treas.gov/ofac). Certain general information pertaining to OFAC's sanctions programs also is available via facsimile through a 24-hour fax-on-demand service, tel.: 202/622-0077.

Background

The Iranian Transactions Regulations, 31 CFR part 560 (the “ITR”), implement a series of Executive orders that began with Executive Order 12613, which was issued on October 29, 1987, pursuant to authorities including the International Security and Development Cooperation Act of 1985 (22 U.S.C. 2349aa-9). In that Order, after finding, inter alia, that the Government of Iran was actively supporting terrorism as an instrument of state policy, the President prohibited the importation of Iranian-origin goods and services. Subsequently, in Executive Order 12957, issued on March 15, 1995, under the authority of, inter alia, the International Emergency Economic Powers Act (50 U.S.C. 1701-1706) (“IEEPA”), the President declared a national emergency with respect to the actions and policies of the Government of Iran, including its support for international terrorism, its efforts to undermine the Middle East peace process, and its efforts to acquire weapons of mass destruction and the means to deliver them. To deal with that threat, Executive Order 12957 imposed prohibitions on certain transactions with respect to the development of Iranian petroleum resources. On May 6, 1995, to further respond to this threat, the President issued Executive Order 12959, which imposed comprehensive trade and financial sanctions on Iran. Finally, on August 19, 1997, the President issued Executive Order 13059 consolidating and clarifying the previous orders.

The ITR implement these Executive orders and prohibit various transactions, including, among others, transactions with the Government of Iran, a term defined in section 560.304. That definition includes several categories, one of which is any entity owned or controlled by the Government of Iran, a phrase that is itself defined in section 560.313 of the ITR.

From its initial publication in 1999 until December 2008, Appendix A to Part 560 listed financial institutions that OFAC determined to be entities owned or controlled by the Government of Iran, within the meaning of sections 560.304 and 560.313 of the ITR. In a final rule amending the ITR published on December 4, 2008, OFAC expanded the scope of Appendix A to Part 560 to include all categories of entities determined to be owned or controlled by the Government of Iran, not just financial institutions (73 FR 73788, Dec. 4, 2008). That expansion of Appendix A to Part 560 was intended to better assist U.S. persons and others engaging in transactions subject to the ITR in complying with the ITR by allowing OFAC to give notice when it determined that any entity was owned or controlled by the Government of Iran.

To further assist compliance with the ITR by U.S. persons and others engaging in transactions subject to the ITR, OFAC today is expanding the scope of Appendix A to Part 560 to encompass all persons determined by OFAC to be the Government of Iran, i.e., to come within any of the categories comprising the definition of the term Government of Iran in section 560.304 of the ITR. That definition includes:

(a) The state and the Government of Iran, as well as any political subdivision, agency, or instrumentality thereof;

(b) Any entity owned or controlled directly or indirectly by the foregoing; and

(c) Any person to the extent that such person is, or has been, or to the extent that there is reasonable cause to believe that such person is, or has been, * * * acting or purporting to act directly or indirectly on behalf of any of the foregoing * * *.

This expansion in scope of Appendix A to Part 560 will better assist U.S. persons and others engaging in transactions subject to the ITR in complying with the ITR by identifying additional categories of persons that come within the term Government of Iran.

In addition, OFAC today is adding the following 22 persons to Appendix A to Part 560, having determined that they all come within the definition of Government of Iran in section 560.304 of the ITR: Bimeh Iran Insurance Company (U.K.) Limited, Iran Insurance Company, Intra Chem Trading GmbH, Iran Petrochemical Commercial Company, Iranian Oil Company (U.K.) Limited, Kala Limited, Kala Pension Trust Limited, MSP Kala Naft Co. Tehran, Naftiran Trading Services Co. (NTS) Limited, National Iranian Oil Company Pte Ltd, National Petrochemical Company, NICO Engineering Limited, NIOC International Affairs (London) Limited, NPC International Limited, P.C.C. (Singapore) Private Limited, Petrochemical Commercial Company International Limited, Petrochemical Commercial Company FZE, Petrochemical Commercial Company (U.K.) Limited, Petroiran Development Company (PEDCO) Limited, Petropars International FZE, Petropars Ltd, and Petropars UK Limited.

OFAC also is updating the current list of persons in Appendix A to Part 560. As a result, OFAC is removing the Iran Overseas Trading Company Limited (Subsidiary) from the appendix, because this entity has been dissolved and no longer exists, and is amending the listing for Naftiran Intertrade Co. (NICO) Limited to reflect current identifying information. In addition, OFAC is consolidating the listings for the Iran Overseas Investment Bank Limited (Representative Office), the Iran Overseas Investment Bank Limited (Agency), and the Iran Overseas Investment Corporation Limited under Bank Saderat PLC, and is consolidating the listings for Agricultural Cooperative Bank of Iran, Agricultural Development Bank of Iran, Bank Josiaiyi Keshahvarzi, and Bank Taavon Keshavarzi Iran under Bank Keshavarzi Iran. Finally, OFAC is reformatting and republishing in alphabetical order the entire list of persons in the expanded appendix A.

It is important to note that Appendix A to Part 560 is not a comprehensive list of persons falling within the definition of Government of Iran. Even if a person is not listed in Appendix A to Part 560, if the person satisfies the definition of the term Government of Iran in the ITR, U.S. persons and others engaging in transactions subject to the ITR are prohibited from engaging in transactions with that person, regardless of its location, to the same extent they are prohibited from engaging in transactions with the persons listed in Appendix A to Part 560. U.S. persons and others engaging in transactions subject to the ITR also are prohibited from engaging in most transactions with any person located in Iran, even if that person does not come within the definition of the term Government of Iran. Finally, a person listed in Appendix A to Part 560 also may be subject to other sanctions programs administered by OFAC, in which case that person's name would also appear in the list at Appendix A to 31 CFR chapter V. Such a person is identified in Appendix A to Part 560 by references (“tags”), located at the end of the person's listing, to the sanctions program(s) to which the person is subject (e.g., [IRAN] [NPWMD] or [IRAN] [SDGT]).

Public Participation

Because the amendment of the ITR involves a foreign affairs function, the provisions of Executive Order 12866 and the Administrative Procedure Act (5 U.S.C. 553) requiring notice of proposed rulemaking, opportunity for public participation, and delay in effective date are inapplicable. Because no notice of proposed rulemaking is required for this rule, the Regulatory Flexibility Act (5 U.S.C. 601-612) does not apply.

Paperwork Reduction Act

The collections of information related to the ITR are contained in 31 CFR part 501 (the “Reporting, Procedures and Penalties Regulations”). Pursuant to the Paperwork Reduction Act of 1995 (44 U.S.C. 3507), those collections of information have been approved by the Office of Management and Budget under control number 1505-0164. An agency may not conduct or sponsor, and a person is not required to respond to, a collection of information unless the collection of information displays a valid control number.

List of Subjects in 31 CFR Part 560

Administrative practice and procedure, Banks, Banking, Brokers, Foreign Trade, Investments, Loans, Securities, Iran.

For the reasons set forth in the preamble, the Department of the Treasury's Office of Foreign Assets Control amends 31 CFR part 560 to read as follows:

PART 560—IRANIAN TRANSACTIONS REGULATIONS

1. The authority citation for Part 560 continues to read as follows:

Authority: 3 U.S.C. 301; 18 U.S.C. 2339B, 2332d; 22 U.S.C. 2349aa-9; 31 U.S.C. 321(b); 50 U.S.C. 1601-1651, 1701-1706; Pub. L. 101-410, 104 Stat. 890 (28 U.S.C. 2461 note); Pub. L. 106-387, 114 Stat. 1549; Pub. L. 110-96, 121 Stat. 1011; E.O. 12613, 52 FR 41940, 3 CFR, 1987 Comp., p. 256; E.O. 12957, 60 FR 14615, 3 CFR, 1995 Comp., p. 332; E.O. 12959, 60 FR 24757, 3 CFR, 1995 Comp., p. 356; E.O. 13059, 62 FR 44531, 3 CFR, 1997 Comp., p. 217.

2. Revise Appendix A to Part 560 to read as follows:

Appendix A To Part 560—Persons Determined To Be The Government Of Iran, As Defined In § 560.304 Of This Part

This non-exhaustive appendix lists persons determined by the Office of Foreign Assets Control (“OFAC”) to be the Government of Iran, as defined in § 560.304 of this part. The persons listed below are considered to be the Government of Iran not only when they operate from the locations listed below, but also when they operate from any other location. The names and addresses are subject to change. This part 560 contains prohibitions against engaging in most transactions with persons that meet the definition of the Government of Iran, whether such persons are located or incorporated inside or outside of Iran. Moreover, regardless of whether a person is listed below, if the person comes within the definition of Government of Iran in § 560.304, the prohibitions on engaging in transactions with the person, wherever located worldwide, apply to the same extent they would apply if the person were listed in this appendix. Note that the prohibitions in this part 560 also apply to most transactions with persons located in Iran that are not the Government of Iran. Finally, a person listed in Appendix A to Part 560 also may be subject to other sanctions programs administered by OFAC, in which case that person's name would also appear in the list at Appendix A to 31 CFR chapter V. Such a person is identified in Appendix A to Part 560 by references (“tags”), located at the end of the person's listing, to the sanctions program(s) to which the person is subject (e.g., [IRAN] [NPWMD] or [IRAN] [SDGT]).

Notes to Appendix A to Part 560:

1. The alphabetical list below provides the following information concerning persons determined by OFAC to be the Government of Iran: the name (including known former or alternate names), address, [IRAN] tag, and, if applicable, the tag(s) denoting other sanctions program(s) under which the person also is blocked.

2. The abbreviations used in this appendix are “a.k.a.” (also known as) and “f.k.a.” (formerly known as).

3. The references to sanctions programs in 31 CFR chapter V include: [IRAN] (Iranian Transactions Regulations, part 560); [NPWMD] (Weapons of Mass Destruction Proliferators Sanctions Regulations, part 544); and [SDGT] (Global Terrorism Sanctions Regulations, part 594).

4. The names of persons listed in Appendix A to Part 560 also are published on OFAC's Specially Designated Nationals and Blocked Persons List (“SDN” list), available on OFAC's Web site. New names of persons determined to be the Government of Iran and changes to existing listings will be published in the Federal Register as the names are added to the SDN list on OFAC's Web site. Appendix A to Part 560 will be republished annually.

This document and additional information concerning OFAC are available from OFAC's Web site (http://www.treas.gov/ofac). Certain general information pertaining to OFAC's sanctions programs also is available via facsimile through a 24-hour fax-on-demand service, tel.: 202/622-0077. Please consult OFAC's Web site prior to engaging in transactions that may be subject to the prohibitions contained in part 560.

BANK KESHAVARZI IRAN (a.k.a. AGRICULTURAL BANK OF IRAN; a.k.a. BANK KESHAVARZI), PO Box 14155-6395, 129 Patrice Lumumba St, Jalal-al-Ahmad Expressway, Tehran 14454, Iran; all offices worldwide [IRAN]

BANK MARKAZI JOMHOURI ISLAMI IRAN (a.k.a. BANK MARKAZI IRAN; a.k.a. CENTRAL BANK OF IRAN; a.k.a. CENTRAL BANK OF THE ISLAMIC REPUBLIC OF IRAN), 213 Ferdowsi Avenue, Tehran 11365, Iran; PO Box 15875/7177, 144 Mirdamad Blvd, Tehran, Iran [IRAN]

BANK MASKAN (a.k.a. HOUSING BANK (OF IRAN)), PO Box 11365/5699, No 247 3rd Floor Fedowsi Ave, Cross Sarhang Sakhaei St, Tehran, Iran; all offices worldwide [IRAN]

BANK MELLAT, 327 Forsat and Taleghani Avenue, Tehran 15817, Iran; PO Box 375010, Amiryan Str #6, P/N-24, Yerevan, Armenia; Keumkang Tower—13th & 14th Floor, 889-13 Daechi-Dong, Gangnam-Ku, Seoul 135-280, Korea, South; PO Box 79106425, Ziya Gokalp Bulvari No 12, Kizilay, Ankara, Ankara, Turkey; Cumhuriyet Bulvari No 88/A, PK 7103521, Konak, Izmir, Turkey; Buyukdere Cad, Cicek Sokak No 1—1 Levent, Levent, Istanbul, Turkey; Head Office Bldg, 327 Taleghani Ave, Tehran 15817, Iran; all offices worldwide [IRAN] [NPWMD]

BANK MELLI IRAN (a.k.a. BANK MELLI; a.k.a. NATIONAL BANK OF IRAN), 43 Avenue Montaigne, Paris 75008, France; Room 704-6, Wheelock Hse, 20 Pedder St, Central, Hong Kong; Bank Melli Iran Bldg, 111 St 24, 929 Arasat, Baghdad, Iraq; PO Box 2643, Ruwi, Muscat 112, Oman; PO Box 2656, Liva Street, Abu Dhabi, United Arab Emirates; PO Box 248, Hamad Bin Abdulla St, Fujairah, United Arab Emirates; PO Box 1888, Clock Tower, Industrial Rd, Al Ain Club Bldg, Al Ain, Abu Dhabi, United Arab Emirates; PO Box 1894, Baniyas St, Deira, Dubai City, United Arab Emirates; PO Box 5270, Oman Street Al Nakheel, Ras Al-Khaimah, United Arab Emirates; PO Box 459, Al Borj St, Sharjah, United Arab Emirates; PO Box 3093, Ahmed Seddiqui Bldg, Khalid Bin El-Walid St, Bur-Dubai, Dubai City 3093, United Arab Emirates; PO Box 1894, Al Wasl Rd, Jumeirah, Dubai, United Arab Emirates; Postfach 112 129, Holzbruecke 2, D-20459, Hamburg, Germany; Nobel Ave. 14, Baku, Azerbaijan; Unit 1703-4, 17th Floor, Hong Kong Club Building, 3 A Chater Road Central, Hong Kong; PO Box 11365-171, Ferdowsi Avenue, Tehran, Iran; all offices worldwide [IRAN] [NPWMD]

BANK OF INDUSTRY AND MINE (OF IRAN) (a.k.a. BANK SANAD VA MADAN; a.k.a. “BIM”), No 1655, Firouzeh Building, Mahmoudiye Street, Valiasr Ave, Tehran, Iran; PO Box 15875-4456, Firouzeh Tower, No 1655 Vali-Asr Ave after Chamran Crossroads, Tehran 1965643511, Iran; all offices worldwide [IRAN]

BANK REFAH KARGARAN (a.k.a. BANK REFAH; a.k.a. WORKERS' WELFARE BANK (OF IRAN)), No. 40 North Shiraz Street, Mollasadra Ave, Vanak Sq, Tehran 19917, Iran; all offices worldwide [IRAN]

BANK SADERAT IRAN (a.k.a. IRAN EXPORT BANK), Ground Floor Business Room, Building Banke Khoon Road, Harat, Afghanistan; No. 56, Opposite of Security Department, Toraboz Khan Str., Kabul, Afghanistan; 5 Lothbury, London EC2R 7HD, United Kingdom; Postfach 112227, Deichstrasse 11, 20459, Hamburg, Germany; PO Box 4308, 25-29 Venizelou St, Athens, Attica GR 105 64, Greece; PO Box 15745-631, Bank Saderat Tower, 43 Somayeh Avenue, Tehran, Iran; 16 rue de la Paix, Paris 75002, France; Postfach 160151, Friedenstr 4, D-60311, Frankfurt am Main, Germany; 3rd Floor, Aliktisad Bldg, Ras El Ein Street Baalbak, Baalbak, Lebanon; Saida Branch, Sida Riad Elsoleh St, Martyrs Sq, Saida, Lebanon; Borj Albarajneh Branch—20 Alholom Bldg, Sahat Mreijeh, Kafaat St, Beirut, Lebanon; 1st Floor, Alrose Bldg, Verdun—Rashid Karame St, Beirut, Lebanon; PO Box 5126, Beirut, Lebanon; 3rd Floor, Mteco Centre, Mar Elias, Facing Al Hellow Barrak, POB 5126, Beirut, Lebanon; Alghobeiri Branch—Aljawhara Bldg, Ghobeiry Blvd, Beirut, Lebanon; PO Box 1269, Muscat 112, Oman; PO Box 4425, Salwa Rd, Doha, Qatar; PO Box 2256, Doha, Qatar; 2nd Floor, No 181 Makhtoomgholi Ave, Ashgabat, Turkmenistan; PO Box 700, Abu Dhabi, United Arab Emirates; PO Box 16, Liwara Street, Ajman, United Arab Emirates; PO Box 1140, Al-Am Road, Al-Ein, Al Ain, Abu Dhabi, United Arab Emirates; Bur Dubai, Khaled Bin Al Walid St, Dubai City, United Arab Emirates; Sheikh Zayed Rd, Dubai City, United Arab Emirates; PO Box 4182, Almaktoum Rd, Dubai City, United Arab Emirates; PO Box 4182, Murshid Bazar Branch, Dubai City, United Arab Emirates; PO Box 316, Bank Saderat Bldg, Alaroda St, Borj Ave, Sharjah, United Arab Emirates; all offices worldwide [IRAN] [SDGT]

BANK SADERAT PLC (f.k.a. IRAN OVERSEAS INVESTMENT BANK LIMITED; f.k.a. IRAN OVERSEAS INVESTMENT BANK PLC; f.k.a. IRAN OVERSEAS INVESTMENT CORPORATION LIMITED), 5 Lothbury, London EC2R 7HD, United Kingdom; PO Box 15175/584, 6th Floor, Sadaf Bldg, 1137 Vali Asr Ave, Tehran 15119-43885, Iran; UK Company Number 01126618 (United Kingdom); all offices worldwide [IRAN] [SDGT]

BANK SEPAH, 64 Rue de Miromesnil, Paris 75008, France; Hafenstrasse 54, D-60327, Frankfurt am Main, Germany; Via Barberini 50, Rome, RM 00187, Italy; 17 Place Vendome, Paris 75008, France; Imam Khomeini Square, Tehran 1136953412, Iran; all offices worldwide [IRAN] [NPWMD]

BANK TEJARAT, 130, Zandi Alley, Taleghani Avenue, No 152, Ostad Nejat Ollahi Cross, Tehran 14567, Iran; 124-126 Rue de Provence, Angle 76 bd Haussman, Paris 75008, France; PO Box 734001, Rudaki Ave 88, Dushanbe 734001, Tajikistan; Office C208, Beijing Lufthansa Center No 50, Liangmaqiao Rd, Chaoyang District, Beijing 100016, China; c/o Europaisch-Iranische Handelsbank AG, Depenau 2, D-20095, Hamburg, Germany; PO Box 119871, 4th Floor, c/o Persia International Bank PLC, The Gate Bldg, Dubai City, United Arab Emirates; c/o Persia International Bank, 6 Lothbury, London EC2R 7HH, United Kingdom; PO Box 11365-5416, 152 Taleghani Avenue, Tehran 15994, Iran; all offices worldwide [IRAN]

BIMEH IRAN INSURANCE COMPANY (U.K.) LIMITED (a.k.a. BIUK), 4/5 Fenchurch Buildings, London EC3M 5HN, United Kingdom; UK Company Number 01223433 (United Kingdom); all offices worldwide [IRAN]

EUROPAISCH-IRANISCHE HANDELSBANK AG (f.k.a. DEUTSCH-IRANISCHE HANDELSBANK AG; a.k.a. EUROPAEISCH-IRANISCHE HANDELSBANK AKTIENGESELLSCHAFT), PO Box 79415-148, Sanaee Avenue, Kish Island, Iran; No. 1655/1 Valiasr Avenue, PO Box 19615-851, Tehran 19565 43 511, Iran; Depenau 2, D-20095, Hamburg, Germany; all offices worldwide [IRAN]

INTRA CHEM TRADING GMBH (a.k.a. INTRA-CHEM TRADING CO. (GMBH)), Schottweg 3, Hamburg 22087, Germany; Registration ID HRB48416 (Germany); all offices worldwide [IRAN]

IRAN INSURANCE COMPANY (a.k.a. BIMEH IRAN), Abdolaziz-Al-Masaeed Building, Sheikh Maktoom St., Deira, P.O. Box 2004, Dubai, United Arab Emirates; P.O. Box 1867, Al Ain, Abu Dhabi, United Arab Emirates; 107 Dr Fatemi Avenue, Tehran 14155/6363, Iran; P.O. Box 3281, Abu Dhabi, United Arab Emirates; P.O. Box 1666, Sharjah, United Arab Emirates; P.O. Box 849, Ras-Al-Khaimah, United Arab Emirates; P.O. Box 417, Muscat 113, Oman; P.O. Box 676, Salalah 211, Oman; P.O. Box 995, Manama, Bahrain; Al-Lami Center, Ali-Bin-Abi Taleb St. Sharafia, P.O. Box 11210, Jeddah 21453, Saudi Arabia; Al Alia Center, Salaheddine Rd., Al Malaz, P.O. Box 21944, Riyadh 11485, Saudi Arabia; Al Rajhi Bldg., 3rd Floor, Suite 23, Dhahran St., P.O. Box 1305, Dammam 31431, Saudi Arabia; all offices worldwide [IRAN]

IRAN PETROCHEMICAL COMMERCIAL COMPANY (a.k.a. PETROCHEMICAL COMMERCIAL COMPANY; a.k.a. SHERKATE BASARGANI PETROCHEMIE (SAHAMI KHASS); a.k.a. SHERKATE BAZARGANI PETRCHEMIE; a.k.a. “IPCC”; a.k.a. “PCC”), INONU CAD. SUMER Sok., Zitas Bloklari C.2 Bloc D.H, Kozyatagi, Kadikoy, Istanbul, Turkey; Topcu Ibrahim Sokak No: 13 D: 7 Icerenkoy-Kadikoy, Istanbul, Turkey; No. 1339, Vali Nejad Alley, Vali-e-Asr St., Vanak Sq., Tehran, Iran; 99-A, Maker Tower F, 9th Floor, Cuffe Parade, Colabe, Mumbai 400 005, India; No. 1014, Doosan We've Pavilion, 58, Soosong-Dong, Jongno-Gu, Seoul, Korea, South; Office No. 707, No. 10, Chao Waidajie, Chao Tang District, Beijing 100020, China; all offices worldwide [IRAN]

IRANIAN OIL COMPANY (U.K.) LIMITED (a.k.a. IOC UK LTD), Riverside House, Riverside Drive, Aberdeen AB11 7LH, United Kingdom; UK Company Number 01019769 (United Kingdom); all offices worldwide [IRAN]

KALA LIMITED (a.k.a. KALA NAFT LONDON LTD), NIOC House, 4 Victoria Street, Westminster, London SW1H 0NE, United Kingdom; UK Company Number 01517853 (United Kingdom); all offices worldwide [IRAN]

KALA PENSION TRUST LIMITED, C/O Kala Limited, N.I.O.C. House, 4 Victoria Street, London SW1H 0NE, United Kingdom; UK Company Number 01573317 (United Kingdom); all offices worldwide [IRAN]

MSP KALA NAFT CO. TEHRAN (a.k.a. KALA NAFT CO SSK; a.k.a. KALA NAFT COMPANY LTD; a.k.a. KALA NAFT TEHRAN; a.k.a. KALA NAFT TEHRAN COMPANY; a.k.a. KALAYEH NAFT CO; a.k.a. M.S.P.-KALA; a.k.a. MANUFACTURING SUPPORT & PROCUREMENT CO.-KALA NAFT; a.k.a. MANUFACTURING SUPPORT AND PROCUREMENT (M.S.P.) KALA NAFT CO. TEHRAN; a.k.a. MANUFACTURING, SUPPORT AND PROCUREMENT KALA NAFT COMPANY; a.k.a. MSP KALA NAFT TEHRAN COMPANY; a.k.a. MSP KALANAFT; a.k.a. MSP-KALANAFT COMPANY; a.k.a. SHERKAT SAHAMI KHASS KALA NAFT; a.k.a. SHERKAT SAHAMI KHASS POSHTIBANI VA TEHIYEH KALAYE NAFT TEHRAN; a.k.a. SHERKATE POSHTIBANI SAKHT VA TAHEIH KALAIE NAFTE TEHRAN), 242 Sepahbod Gharani Street, Karim Khan Zand Bridge, Corner Kalantari Street, 8th Floor, P.O. Box 15815-1775/15815-3446, Tehran 15988, Iran; Building No. 226, Corner of Shahid Kalantari Street, Sepahbod Gharani Avenue, Karimkhan Avenue, Tehran 1598844815, Iran; No. 242, Shahid Kalantari St., Near Karimkhan Bridge, Sepahbod Gharani Avenue, Tehran, Iran; Head Office Tehran, Sepahbod Gharani Ave., P.O. Box 15815/1775 15815/3446, Tehran, Iran; P.O. Box 2965, Sharjah, United Arab Emirates; 333 7th Ave SW #1102, Calgary, AB T2P 2Z1, Canada; Chekhov St., 24.2, AP 57, Moscow, Russia; Room No. 704—No. 10 Chao Waidajie Chao Yang District, Beijing 10020, China; Sanaee Ave., P.O. Box 79417-76349, N.I.O.C., Kish, Iran; 10th Floor, Sadaf Tower, Kish Island, Iran; all offices worldwide [IRAN]

NAFTIRAN INTERTRADE CO. (NICO) LIMITED (a.k.a. NAFT IRAN INTERTRADE COMPANY LTD; a.k.a. NAFTIRAN INTERTRADE COMPANY (NICO); a.k.a. NAFTIRAN INTERTRADE COMPANY LTD; a.k.a. NICO), 3rd Floor, Windward House, La Route De La Liberation, St Helier JE2 3BQ, Jersey; Petro Pars Building, Saadat Abad Ave, No 35, Farhang Blvd, Tehran, Iran; all offices worldwide [IRAN]

NAFTIRAN INTERTRADE CO. (NICO) SARL (a.k.a. NICO), 6, Avenue de la Tour-Haldimand, Pully, VD 1009, Switzerland; all offices worldwide [IRAN]

NAFTIRAN TRADING SERVICES CO. (NTS) LIMITED, 47 Queen Anne Street, London W1G 9JG, United Kingdom; 6th Floor NIOC Ho, 4 Victoria St, London SW1H 0NE, United Kingdom; UK Company Number 02600121 (United Kingdom); all offices worldwide [IRAN]

NATIONAL IRANIAN OIL COMPANY (a.k.a. NIOC), Hafez Crossing, Taleghani Avenue, P.O. Box 1863 and 2501, Tehran, Iran; all offices worldwide [IRAN]

NATIONAL IRANIAN OIL COMPANY PTE LTD, 7 Temasek Boulevard #07-02, Suntec Tower One 038987, Singapore; Registration ID 199004388C (Singapore); all offices worldwide [IRAN]

NATIONAL PETROCHEMICAL COMPANY (a.k.a. “NPC”), No. 104, North Sheikh Bahaei Blvd., Molla Sadra Ave., Tehran, Iran; all offices worldwide [IRAN]

NICO ENGINEERING LIMITED, 41, 1st Floor, International House, The Parade, St. Helier JE2 3QQ, Jersey; Registration ID 75797 (Jersey); all offices worldwide [IRAN]

NIOC INTERNATIONAL AFFAIRS (LONDON) LIMITED, NIOC House, 4 Victoria Street, London SW1H 0NE, United Kingdom; UK Company Number 02772297 (United Kingdom); all offices worldwide [IRAN]

NPC INTERNATIONAL LIMITED (a.k.a. N P C INTERNATIONAL LTD; a.k.a. NPC INTERNATIONAL COMPANY), 5th Floor NIOC House, 4 Victoria Street, London SW1H 0NE, United Kingdom; UK Company Number 02696754 (United Kingdom); all offices worldwide [IRAN]

P.C.C. (SINGAPORE) PRIVATE LIMITED (a.k.a. P.C.C. SINGAPORE BRANCH; a.k.a. PCC SINGAPORE PTE LTD), 78 Shenton Way, #08-02 079120, Singapore; 78 Shenton Way, 26-02A Lippo Centre 079120, Singapore; Registration ID 199708410K (Singapore); all offices worldwide [IRAN]

PETROCHEMICAL COMMERCIAL COMPANY (U.K.) LIMITED (a.k.a. PCC (UK); a.k.a. PCC UK; a.k.a. PCC UK LTD), 4 Victoria Street, London SW1H 0NE, United Kingdom; UK Company Number 02647333 (United Kingdom); all offices worldwide [IRAN]

PETROCHEMICAL COMMERCIAL COMPANY FZE (a.k.a. PCC FZE), 1703 17th Floor, Dubai World Trade Center Tower Sheikh Zayed Road, Dubai, United Arab Emirates; Office No. 99-A, Maker Tower “F” 9th Floor Cutte Pavade, Colabe, Bumbai 700005, India; all offices worldwide [IRAN]

PETROCHEMICAL COMMERCIAL COMPANY INTERNATIONAL LIMITED (a.k.a. PETROCHEMICAL COMMERCIAL COMPANY INTERNATIONAL LTD; a.k.a. PETROCHEMICAL TRADING COMPANY LIMITED; a.k.a. “PCCI”), P.O. Box 261539, Jebel Ali, Dubai, United Arab Emirates; 41, 1st Floor, International House, The Parade, St. Helier JE2 3QQ, Jersey; Ashkhabat, Ave. 54, Yimpash Business Center, No. 506, 507, Turkmenistan; No. 21 End of 9th St, Gandi Ave, Tehran, Iran; 21, Africa Boulevard, Tehran, Iran; Registration ID 77283 (Jersey); all offices worldwide [IRAN]

PETROIRAN DEVELOPMENT COMPANY (PEDCO) LIMITED (a.k.a. PETRO IRAN DEVELOPMENT COMPANY; a.k.a. “PEDCO”), National Iranian Oil Company—PEDCO, P.O. Box 2965, Al Bathaa Tower, 9th Floor, Apt. 905, Al Buhaira Corniche, Sharjah, United Arab Emirates; P.O. Box 15875-6731, Tehran, Iran; 41, 1st Floor, International House, The Parade, St. Helier JE2 3QQ, Jersey; No. 22, 7th Lane, Khalid Eslamboli Street, Shahid Beheshti Avenue, Tehran, Iran; No. 102, Next to Shahid Amir Soheil Tabrizian Alley, Shahid Dastgerdi (Ex Zafar) Street, Shariati Street, Tehran 19199/45111, Iran; Kish Harbour, Bazargan Ferdos Warehouses, Kish Island, Iran; Registration ID 67493 (Jersey); all offices worldwide [IRAN]

PETROPARS INTERNATIONAL FZE (a.k.a. PPI FZE), P.O. Box 72146, Dubai, United Arab Emirates; all offices worldwide [IRAN]

PETROPARS LTD. (a.k.a. PETROPARS LIMITED; a.k.a. “PPL”), Calle La Guairita, Centro Profesional Eurobuilding, Piso 8, Oficina 8E, Chuao, Caracas 1060, Venezuela; No. 35, Farhang Blvd., Saadat Abad, Tehran, Iran; P.O. Box 3136, Road Town, Tortola, Virgin Islands, British; all offices worldwide [IRAN]

PETROPARS UK LIMITED, 47 Queen Anne Street, London W1G 9JG, United Kingdom; UK Company Number 03503060 (United Kingdom); all offices worldwide [IRAN]

Dated: June 14, 2010.
Adam J. Szubin,
Director, Office of Foreign Assets Control.

[FR Doc. 2010-14678 Filed 6-16-10; 2:00 pm]

BILLING CODE 4810-AL-P